DEPARTMENT OF THE INTERIOR

National Park Service

[NPS-NER-BOHA-21830; PPMPSPD1Z.YM0000] [PPNEBOHAS1]

Notice of September 19, 2016, Meeting of the Boston Harbor Islands National Recreation Area Advisory Council

AGENCY: National Park Service, Interior.

ACTION: Notice of meeting.

SUMMARY: This notice announces the meeting of the Boston Harbor Islands National Recreation Area Advisory Council (Council). The agenda includes updates from Boston Harbor Now and the National Park Service as well as an informational session about the Federal Advisory Committee Act (FACA).

DATES: September 19, 2016, from 5:30 p.m. to 7:30 p.m. (Eastern).

ADDRESSES: New England Aquarium, Harborside Learning Lab, Central Wharf, Boston, MA 02110.

FOR FURTHER INFORMATION CONTACT: Giles Parker, Superintendent and Designated Federal Official (DFO), Boston Harbor Islands National Recreation Area, 15 State Street, Suite 1100, Boston, MA 02109, telephone (617) 223-8669, or email giles_parker@nps.gov.

SUPPLEMENTARY INFORMATION: This meeting is open to the public. Those wishing to submit written comments may contact the DFO for the Council, Giles Parker, by mail at National Park Service, Boston Harbor Islands, 15 State Street, Suite 1100, Boston, MA 02109 or by email giles_parker@nps.gov. Before including your address, telephone number, email address, or other personal identifying information in your comment, you should be aware that your entire comment—including your personal identifying information—may be made publicly available at any time. While you may ask us in your comment to withhold your personal identifying information from public review, we cannot guarantee that we will be able to do so.

The Council was appointed by the Director of the National Park Service pursuant to 16 U.S.C. 460kkk(g). The purpose of the Council is to advise and make recommendations to the Boston Harbor Islands Partnership with respect to the implementation of a management plan and park operations. Efforts have been made locally to ensure that the interested public is aware of the meeting dates.

Alma Ripps,
Chief, Office of Policy.

[FR Doc. 2016-21447 Filed 9-6-16; 8:45 am]

BILLING CODE 4310-EE-P